DEPARTMENT OF ENERGY

Federal Energy Regulatory Commission

Combined Notice of Filings

October 2, 2009.

Take notice that the Commission has received the following Natural Gas Pipeline Rate and Refund Report filings:

Docket Numbers: RP09-1076-000.

Applicants: Dominion Cove Point LNG, LP.

Description: Dominion Cove Point LNG, LP submits Ninth Revised Sheet 200 et al to FERC Gas Tariff, Original Volume 1.

Filed Date: 09/28/2009.

Accession Number: 20090929-0089.

Comment Date: 5 p.m. Eastern Time on Tuesday, October 13, 2009.

Docket Numbers: RP09-1077-000.

Applicants: Guardian Pipeline, L.L.C.

Description: Guardian Pipeline, LLC submits Twenty Third Revised Sheet 5 et al to FERC Gas Tariff, Original Volume 1 to be effective 11/1/09.

Filed Date: 09/29/2009.

Accession Number: 20090929-0099.

Comment Date: 5 p.m. Eastern Time on Tuesday, October 13, 2009.

Docket Numbers: RP09-1078-000.

Applicants: Dominion Transmission, Inc.

Description: Dominion Transmission, Inc. submits Thirty Ninth Revised Sheet 31 et al to its FERC Gas Tariff, Third Revised Volume 1 to be effective 11/1/09.

Filed Date: 09/30/2009.

Accession Number: 20091001-0051.

Comment Date: 5 pm Eastern Time on Tuesday, October 13, 2009.

Docket Numbers: RP09-1079-000.

Applicants: Iroquois Gas Transmission System, L.P.

Description: Iroquois Gas Transmission System, LP submits Twenty-fourth Revised Sheet No 4A to its FERC Gas Tariff, First Revised Volume No 1.

Filed Date: 09/30/2009.

Accession Number: 20090930-0077.

Comment Date: 5 p.m. Eastern Time on Tuesday, October 13, 2009.

Docket Numbers: RP09-1081-000.

Applicants: Williston Basin Interstate Pipeline Co.

Description: Williston Basin Interstate Pipeline Company submits Tenth Revised Sheet 358I to its FERC Gas Tariff, Second Revised Volume 1.

Filed Date: 09/30/2009.

Accession Number: 20090930-0079.

Comment Date: 5 p.m. Eastern Time on Tuesday, October 13, 2009.

Docket Numbers: RP09-1082-000.

Applicants: Gas Transmission Northwest Corporation.

Description: Gas Transmission Northwest Corporation submits Eighteenth Revised Sheet No 4 to its FERC Gas Tariff, Third Revised Volume No 1-A.

Filed Date: 09/30/2009.

Accession Number: 20090930-0080.

Comment Date: 5 p.m. Eastern Time on Tuesday, October 13, 2009.

Docket Numbers: RP09-1083-000.

Applicants: Dominion Transmission, Inc.

Description: Dominion Transmission, Inc. submits Fortieth Revised Sheet 31 et al to its FERC Gas Tariff, Third Revised Volume 1, to be effective 11/1/09.

Filed Date: 09/30/2009.

Accession Number: 20091001-0050.

Comment Date: 5 p.m. Eastern Time on Tuesday, October 13, 2009.

Docket Numbers: RP09-1084-000.

Applicants: El Paso Natural Gas Company.

Description: El Paso Natural Gas Co. submits Third Revised Sheet No. 324A et al to FERC Electric Gas Tariff, Second Revised Volume No. 1A, to be effective 11/1/09.

Filed Date: 09/28/2009.

Accession Number: 20090930-0076.

Comment Date: 5 p.m. Eastern Time on Tuesday, October 13, 2009.

Docket Numbers: RP09-1085-000.

Applicants: Equitrans, L.P.

Description: Equitrans, LP submits non conforming transportation service agreement.

Filed Date: 09/30/2009

Accession Number: 20090930-0081.

Comment Date: 5 p.m. Eastern Time on Tuesday, October 13, 2009.

Docket Numbers: RP09-1087-000.

Applicants: Texas Gas Transmission. LLC.

Description: Texas Gas Transmission, LLC submits Third Revised Sheet No. 35A et al to its FERC Gas Tariff, Third Revised Volume No. 1.

Filed Date: 09/30/2009.

Accession Number: 20091001-0072.

Comment Date: 5 p.m. Eastern Time on Tuesday, October 13, 2009.

Docket Numbers: RP09-1088-000.

Applicants: Texas Eastern Transmission LP.

Description: Texas Eastern Transmission, LP submits Third Revised Sheet No. 297A et al to its FERC Gas Tariff, Seventh Revised Volume No. 1.

Filed Date: 09/30/2009.

Accession Number: 20091001-0071.

Comment Date: 5 p.m. Eastern Time on Tuesday, October 13, 2009.

Docket Numbers: RP09-1089-000.

Applicants: Northwest Pipeline GP.

Description: Northwest Pipeline GP submits Third Revised Sheet No. 395 et al to its FERC Gas Tariff, Fourth Revised Volume No. 1.

Filed Date: 09/30/2009.

Accession Number: 20091001-0070.

Comment Date: 5 p.m. Eastern Time on Tuesday, October 13, 2009.

Docket Numbers: RP10-1-000.

Applicants: Trunkline Gas Company, LLC.

Description: Trunkline Gas Company, LLC submits Twenty-Second Revised Sheet No. 10 et al to its FERC Gas Tariff, Third Revised Volume No. 1.

Filed Date: 10/01/2009.

Accession Number: 20091001-0069.

Comment Date: 5 p.m. Eastern Time on Tuesday, October 13, 2009.

Docket Numbers: RP10-2-000.

Applicants: Southwest Gas Storage Company.

Description: Southwest Gas Storage Company submits Twenty-Eighth Revised Sheet No. 5 to its FERC Gas Tariff, First Revised Volume No. 1.

Filed Date: 10/01/2009.

Accession Number: 20091001-0068.

Comment Date: 5 p.m. Eastern Time on Tuesday, October 13, 2009.

Docket Numbers: RP10-3-000.

Applicants: Transcontinental Gas Pipe Line Company, LLC.

Description: Transcontinental Gas Pipe Line Company, LLC submits Third Revised Sheet No. 55 et al to its FERC Gas Tariff, Fourth Revised Volume No. 1.

Filed Date: 10/01/2009.

Accession Number: 20091001-0067.

Comment Date: 5 p.m. Eastern Time on Tuesday, October 13, 2009.

Docket Numbers: RP10-4-000.

Applicants: Transcontinental Gas Pipe Line Company.

Description: Transcontinental Gas Pipe Line Company, LLC submits Fourth Revised Sheet No. 28 to its FERC Gas Tariff, Fourth Revised Volume No. 1.

Filed Date: 10/01/2009.

Accession Number: 20091001-0066.

Comment Date: 5 p.m. Eastern Time on Tuesday, October 13, 2009.

Docket Numbers: RP10-5-000.

Applicants: CenterPoint Energy Gas Transmission Co.

Description: CenterPoint Energy Gas Transmission Co submits an amended negotiated rate agreement with Laclede Energy Resources, Inc.

Filed Date: 10/01/2009.

Accession Number: 20091001-0065.

Comment Date: 5 p.m. Eastern Time on Tuesday, October 13, 2009.

Docket Numbers: RP10-6-000.

Applicants: Gulf South Pipeline Company, LP.

Description: Gulf South Pipeline Company, LP submits a capacity release agreement containing negotiated rate provisions with Q-West Energy Co.

Filed Date: 10/01/2009.

Accession Number: 20091001-0064.

Comment Date: 5 p.m. Eastern Time on Tuesday, October 13, 2009.

Docket Numbers: RP10-7-000.

Applicants: Trunkline Gas Company, LLC.

Description: Trunkline Gas Company, LLC submits annual report of flow through of cash out and penalty revenue.

Filed Date: 10/01/2009.

Accession Number: 20091001-0063.

Comment Date: 5 p.m. Eastern Time on Tuesday, October 13, 2009.

Docket Numbers: RP10-8-000.

Applicants: Gulf South Pipeline Company, LP.

Description: Gulf South Pipeline Company, LP submits replacement negotiated rate letter agreement.

Filed Date: 10/01/2009.

Accession Number: 20091001-0062.

Comment Date: 5 p.m. Eastern Time on Tuesday, October 13, 2009.

Docket Numbers: RP10-9-000.

Applicants: Gulf South Pipeline Company, LP.

Description: Gulf South Pipeline Company, LP submits capacity release agreement.

Filed Date: 10/01/2009.

Accession Number: 20091001-0061.

Comment Date: 5 p.m. Eastern Time on Tuesday, October 13, 2009.

Docket Numbers: RP10-10-000.

Applicants: Panhandle Eastern Pipe Line Company, LP.

Description: Panhandle Eastern Pipe Line Company, LP submits Twenty-Fifth Revised Sheet No. 4 et al to its FERC Gas Tariff, Third Revised Volume No. 1.

Filed Date: 10/01/2009.

Accession Number: 20091001-0060.

Comment Date: 5 p.m. Eastern Time on Tuesday, October 13, 2009.

Docket Numbers: RP10-11-000.

Applicants: Gulf South Pipeline Company, LP.

Description: Gulf South Pipeline Company, LP submits capacity release agreement.

Filed Date: 10/01/2009.

Accession Number: 20091001-0059.

Comment Date: 5 p.m. Eastern Time on Tuesday, October 13, 2009.

Docket Numbers: RP10-12-000.

Applicants: Mississippi Canyon Gas Pipeline, LLC.

Description: Mississippi Canyon Gas Pipeline, LLC submits Third Revised Sheet No. 0 et al to its FERC Gas Tariff, First Revised Volume No. 1.

Filed Date: 10/01/2009.

Accession Number: 20091001-0058.

Comment Date: 5 p.m. Eastern Time on Tuesday, October 13, 2009.

Docket Numbers: RP10-13-000.

Applicants: Carolina Gas Transmission Corporation.

Description: Carolina Gas Transmission Corporation submits Seventh Revised Sheet No. 10 et al to its FERC Gas Tariff, Original Volume No. 1.

Filed Date: 10/01/2009.

Accession Number: 20091001-0057.

Comment Date: 5 p.m. Eastern Time on Tuesday, October 13, 2009.

Docket Numbers: RP10-14-000.

Applicants: Transcontinental Gas Pipe Line Company.

Description: Transcontinental Gas Pipe Line Company, LLC submits First Revised Sheet No. 29A to its FERC Gas Tariff, Fourth Revised Volume No. 1.

Filed Date: 10/01/2009.

Accession Number: 20091001-0056.

Comment Date: 5 p.m. Eastern Time on Tuesday, October 13, 2009.

Docket Numbers: RP10-15-000.

Applicants: Dauphin Island Gathering Partners.

Description: Dauphin Island Gathering Partners submits Forty-Eighth Revised Sheet No. 9 et al to FERC Gas Tariff, First Revised Volume No. 1.

Filed Date: 10/01/2009.

Accession Number: 20091001-0055.

Comment Date: 5 p.m. Eastern Time on Tuesday, October 13, 2009.

Docket Numbers: RP10-16-000.

Applicants: ANR Pipeline Company.

Description: ANR Pipeline Company submits amendment to Rate Schedule FTS-1 negotiated rate agreement between ANR and Nexen Marketing USA, Inc.

Filed Date: 10/01/2009.

Accession Number: 20091001-0054.

Comment Date: 5 p.m. Eastern Time on Tuesday, October 13, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-24271 Filed 10-7-09; 8:45 am]

BILLING CODE 6717-01-P